DEPARTMENT OF TRANSPORTATION

Federal Aviation Administration

14 CFR Part 39

[Docket No. 2000-CE-80-AD; Amendment 39-13019; AD 2003-02-03]

RIN 2120-AA64

Airworthiness Directives; Raytheon Aircraft Company 65, 90, 99, 100, 200, and 300 Series, and Model 2000 Airplanes

AGENCY: Federal Aviation Administration, DOT.

ACTION: Final rule.

SUMMARY: This amendment adopts a new airworthiness directive (AD) that applies to certain Raytheon Aircraft Company (Raytheon) 65, 90, 99, 100, 200, and 300 series, and Model 2000 airplanes. This AD requires you to install new exterior operating instruction placards for the airstair door and emergency exits. This AD is the result of Raytheon improving the visibility and understandability of the door operating instruction placards. This was done as a result of difficulty opening the emergency exits of a similar type design airplane. The actions specified by this AD are intended to assure that clear and complete operating instructions are visible for opening the airstair door and emergency exits. If the operating instructions are not visible or understandable, this could result in the inability to open the airstair door or emergency exits during an emergency situation.

DATES: This AD becomes effective on March 7, 2003.

The Director of the Federal Register approved the incorporation by reference of certain publications listed in the regulations as of March 7, 2003.

ADDRESSES: You may get the service information referenced in this AD from Raytheon Aircraft Company, 9709 E. Central, Wichita, Kansas 67201-0085; telephone: (800) 429-5372 or (316) 676-3140. You may view this information at the Federal Aviation Administration (FAA), Central Region, Office of the Regional Counsel, Attention: Rules Docket No. 2000-CE-80-AD, 901 Locust, Room 506, Kansas City, Missouri 64106; or at the Office of the Federal Register, 800 North Capitol Street, NW., Suite 700, Washington, DC.

FOR FURTHER INFORMATION CONTACT: Mr. Steven E. Potter, Aerospace Engineer, Wichita Aircraft Certification Office, FAA, 1801 Airport Road, Wichita, Kansas 67209; telephone: (316) 946-4124; facsimile: (316) 946-4407.

SUPPLEMENTARY INFORMATION:

Discussion

What events have caused this AD? FAA believes that the instructions for opening the airstair door and emergency exits are either not visible or not easy to understand on Raytheon 65, 90, 99, 100, 200, and 300 series, and Model 2000 airplanes. This is based on an accident that resulted in the issuance of AD 97-04-02. AD 97-04-02 was later superseded by AD 98-21-20 to incorporate more visible and understandable instructions.

What is the potential impact if FAA took no action? If the exterior door operating instruction placards are not visible or understandable, this could result in the inability to open the airstair door or emergency exits during an emergency situation.

Has FAA taken any action to this point? We issued a proposal to amend part 39 of the Federal Aviation Regulations (14 CFR part 39) to include an AD that would apply to certain Raytheon 65, 90, 99, 100, 200, and 300 series, and Model 2000 airplanes. This proposal was published in the Federal Register as a notice of proposed rulemaking (NPRM) on August 9, 2002 (67 FR 51791). The NPRM proposed to require you to install new exterior operating instruction placards for the airstair door and emergency exits.

Was the public invited to comment? The FAA encouraged interested persons to participate in the making of this amendment. The following presents the comments received on the proposal and FAA's response to each comment:

Comment Issue No. 1: AD Is Unjustified

What is the commenter's concern? The commenter believes that in the accident that resulted in the earlier ADs, the damage to the airplane prevented the doors from opening. Therefore, the commenter believes that if the new placards had been present in this situation, they still would not have prevented injuries or loss of life. We infer that the commenter wants the NPRM withdrawn based on no compelling evidence that the presence of the placards addresses the unsafe condition.

What Is FAA's response to the concern? We do not concur. In an emergency situation, exiting the airplane is of the utmost importance, especially if the postcrash scenario includes a cabin fire. The cabin crew and/or passengers may become incapacitated. Therefore, the exterior emergency exit door operating instructions must be extremely clear and complete so that any person will be able to open the exit door.

We are not changing the final rule AD action based on this comment.

Comment Issue No. 2: Placards Are Not Durable

What is the commenter's concern? The commenter states that the placards supplied by Raytheon do not adhere to the airplane surface properly. The placards often begin to peel-off either in flight or while washing the airplane. We infer that the commenter wants the NPRM withdrawn because the placards will eventually come off on their own.

What is FAA's response to the concern? We are aware that durability and adherence of the placards to the airplane surface may be a problem. However, it is not a valid reason for withdrawing the NPRM. The owners/operators of the affected airplanes may choose to apply one or two coats of clear coating to seal the edges of the placard.

We are not changing the final rule AD action based on this comment.

Comment Issue No. 3: Placards Degrade the Airplane's Appearance

What is the commenter's concern? The commenter states that the affected airplanes are chiefly used in private, charter, and corporate service where appearance is especially important to the owners/operators. The commenter states that the placards are out of proportion to the size of the airplanes, look very ugly, and the contrasting colors of the placards cause a problem because of stripe locations on the airplane's paint job. We infer that the commenter wants the NPRM withdrawn because the placards degrade the airplane's appearance.

What is FAA's response to the concern? We understand that appearance of the aircraft is a key element for owners/operators. However, cosmetic issues cannot be given higher priority than addressing the unsafe condition and exiting the airplane in an emergency situation.

We are not changing the final rule AD action based on this comment.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How many airplanes does this AD impact? We estimate that this AD affects 3,587 airplanes in the U.S. registry.

What is the cost impact of this AD on owners/operators of the affected airplanes? We estimate the following costs to accomplish the modification:

Labor cost | Parts cost | Total cost per airplane | Total cost on U.S. operators
2 workhours × $60 per hour = $120 | Approximately $190 per airplane | $120 + $190 = $310 | $310 × 3,587 = $1,111,970.

The manufacturer will provide warranty credit for labor and parts to the extent noted under MANPOWER and MATERIAL in Raytheon Mandatory Service Bulletin SB 52-3096, Rev. 1, Revised: June, 2002.

Compliance Time of This AD

What is the compliance time of this AD? The compliance time of this AD is “within the next 200 hours time-in-service (TIS) after the effective date of this AD or within the next 12 months after the effective date of this AD, whichever occurs first.”

Why is the compliance time of this AD presented in both hours TIS and calendar time? The unsafe condition on these airplanes is not a result of the number of times the airplane is operated. Airplane operation varies among operators. For example, one operator may operate the airplane 50 hours TIS in 3 months while it may take another operator 12 months or more to accumulate 50 hours TIS. For this reason, the FAA has determined that the compliance time of this AD should be specified in both hours time-in-service (TIS) and calendar time in order to assure this condition is not allowed to go uncorrected over time.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-02-03 Raytheon Aircraft Company: Amendment 39-13019; Docket No. 2000-CE-80-AD.

(a) What airplanes are affected by this AD? This AD affects the following airplane models and serial numbers that are certificated in any category:

Model | Serial Nos.
(1) 65-90, 65-A90, B90, C90, and C90A | LJ-1 through LJ-1530.
(2) 65-A90-1 (U-21A) | LM-1 through LM-125.
(3) 65-A90-1 (U-21G) | LM-126 through LM-141.
(4) 65-A90-2 (RU-21B) | LS-1 through LS-3.
(5) 65-A90-3 (RU-21C) | LT-1 and LT-2.
(6) 65-A90-4 (RU-21E) | LU-1 through LU-16.
(7) E90 | LW-1 through LW-347.
(8) F90 | LA-2 through LA-236.
(9) H90 (T-44A) | LL-1 through LL-61.
(10) 99, 99A, A99A, B99, and C99 | U-1 through U-239.
(11) 100 and A100 | B-1 through B-94 and B-100 through B-247.
(12) A100 (U-21F) | B-95 through B-99.
(13) A100-1 (U-21J) | BB-3 through BB-5.
(14) A200 (C-12A) and (C-12C) | BC-1 through BC-75 and BD-1 through BD-30.
(15) A200C (UC-12B) | BJ-1 through BJ-66.
(16) A200CT (C-12D) | BP-1, BP-22, and BP-24 through BP-51.
(17) A200CT (C-12F) | BP-52 through BP-63.
(18) A200CT (FWC-12D) | BP-7 through BP-11.
(19) A200CT (RC-12D) | GR-1 through GR-12.
(20) A200CT (RC-12G) | FC-1 through FC-3.
(21) A200CT (RC-12H) | GR-14 through GR-19.
(22) A200CT (RC-12K) | FE-1 through FE-9.
(23) A200CT (RC-12P) | FE-25 through FE-31, FE-33, and FE-35.
(24) A200CT (RC-12Q) | FE-32, FE-34, and FE-36.
(25) B100 | BE-1 through BE-137.
(26) 200 and B200 | BB-2, BB-6 through BB-1313, BB-1315 through BB-1384, and BB-1389 through BB-1662.
(27) 200C and B200C | BL-1 through BL-72, and BL-124 through BL-140.
(28) B200C (C-12F) | BL-73 through BL-112, BL-118 through BL-123, and BP-64 through BP-71.
(29) B200C (C-12R) | BW-1 through BW-29.
(30) B200C (UC-12F) | BU-1 through BU-10.
(31) B200C (UC-12M) | BV-1 through BV-10.
(32) 200CT and B200CT | BN-1 through BN-4.
(33) 200T and B200T | BT-1 through BT-38, and BB-1314.
(34) 300 | FA-1 through FA-230, and FF-1 through FF-19.
(35) B300 | FL-1 through FL-252.
(36) B300C | FM-1 through FM-9, and FN-1.
(37) 2000 | NC-4 through NC-53.

(b) Who must comply with this AD? Anyone who wishes to operate any of the airplanes identified in paragraph (a) of this AD must comply with this AD.

(c) What problem does this AD address? The actions specified by this AD are intended to assure that clear and complete operating instructions are visible for opening the airstair door and emergency exits. If the operating instructions are not visible or understandable, this could result in the inability to open the airstair door or emergency exits during an emergency situation.

(d) What actions must I accomplish to address this problem? To address this problem, you must accomplish the following:

Actions | Compliance | Procedures
Modify the exterior door operating procedures by incorporating the applicable kit as specified in the service bulletin | Within the next 200 hours time-in-service (TIS) after March 7, 2003 (the effective date of this AD) or within the next 12 calendar months after the effective date of this AD, whichever occurs first | In accordance with the applicable kit instructions as specified in the Accomplishment Instructions section in Raytheon Mandatory Service Bulletin SB 52-3096, Rev. 1, Revised: June, 2002. Use Paragraph (7) of the Accomplishment Instructions section in Raytheon Mandatory Service Bulletin SB 52-3096, Rev. 1, Revised: June, 2002, to accomplish this action on the Model 2000 airplanes.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. Steven E. Potter, Aerospace Engineer, Wichita Aircraft Certification Office, FAA, 1801 Airport Road, Mid-Continent Airport, Wichita, Kansas 67209; telephone: (316) 946-4124; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin SB 52-3096, Rev. 1, Revised: June, 2002, including Accomplishment Kit Nos. 101-4080-1, 101-4310-1, 101-4310-3, 90-4119-1, and 99-4032-1. The Director of the Federal Register approved this incorporation by reference under 5 U.S.C. 552(a) and 1 CFR part 51. You may get copies from Raytheon Aircraft Company, 9709 E. Central, Wichita, Kansas 67201-0085; telephone: (800) 429-5372 or (316) 676-3140. You may view copies at the FAA, Central Region, Office of the Regional Counsel, 901 Locust, Room 506, Kansas City, Missouri, or at the Office of the Federal Register, 800 North Capitol Street, NW., suite 700, Washington, DC.

(i) When does this amendment become effective? This amendment becomes effective on March 7, 2003.

Issued in Kansas City, Missouri, on January 8, 2003.
Dorenda D. Baker,
Acting Manager, Small Airplane Directorate, Aircraft Certification Service.

[FR Doc. 03-676 Filed 1-21-03; 8:45 am]

BILLING CODE 4910-13-U